SECURITIES AND EXCHANGE COMMISSION

Issuer Delisting; Notice of Application of IVAX Diagnostics, Inc. To Withdraw Its Common Stock, $.01 Par Value, From Listing and Registration on the Boston Stock Exchange, Inc. File No. 1-14798

June 17, 2005.

On June 6, 2005, IVAX Diagnostics, Inc., a Delaware corporation (“Issuer”), filed an application with the Securities and Exchange Commission (“Commission”), pursuant to section 12(d) of the Securities Exchange Act of 1934 (“Act”) ¹; and Rule 12d2-2(d) thereunder,² to withdraw its common stock, $.01 par value (“Security”), from listing and registration on the Boston Stock Exchange, Inc. (“BSE”).

¹ 15 U.S.C. 78l(d).

² 17 CFR 240.12d2-2(d).

On June 1, 2005, the Board of Directors (“Board”) of the Issuer approved a resolution to withdraw the Security from listing and registration on BSE. In making the decision to withdraw the Security from BSE, the Board stated that the following reasons, among others, factored into its decision. On January 13, 2000, b2bstores.com, Inc. (“b2bstores”), the predecessor to the Issuer, filed a Form 8-A/A with the Commission stating that b2bstores had registered the Security to list on BSE. On March 14, 2001, the Issuer, then a wholly-owned subsidiary of IVAX Corporation, merged with and into b2bstores, and on the same day, the Issuer filed a Form 8-A/A with the Commission stating that the Issuer had registered its Security to list on the American Stock Exhange, LLC (“Amex”). Since that time, the Security has been, and currently continues to be, principally listed and traded on Amex, while it is only listed (but not traded) on BSE.

The Issuer stated in its application that it has complied with BSE rules by complying with all applicable laws in the State of Delaware, the state in which the Issuer is incorporated, and by filing with BSE the required documents governing the withdrawal of securities from listing and registration on BSE.

The Issuer's application relates solely to withdrawal of the Security from listing on BSE and shall not affect its continued listing on Amex or its obligation to be registered under section 12(b) of the Act.³

³ 15 U.S.C. 78-(b).

Any interested person may, on or before July 13, 2005, comment on the facts bearing upon whether the application has been made in accordance with the rules of BSE, and what terms, if any, should be imposed by the Commission for the protection of investors. All comment letters may be submitted by either of the following methods:

Electronic Comments

• Use the Commission's Internet comment form (http://www.sec.gov/rules/delist.shtml); or

• Send an e-mail to rule-comments@sec.gov. Please include the File Number 1-14798 or;

Paper Comments

• Send paper comments in triplicate to Jonathan G. Katz, Secretary, Securities and Exchange Commission, 100 F. Street, NE., Washington, DC 20549-9303.

All submissions should refer to File Number 1-14798. This file number should be included on the subject line if e-mail is used. To help us process and review your comments more efficiently, please use only one method. The Commission will post all comments on the Commission's Internet Web site (http://www.sec.gov/rules/delist.shtml). Comments are also available for public inspection and copying in the Commission's Public Reference Room. All comments received will be posted without change; we do not edit personal identifying information from submissions. You should submit only information that you wish to make available publicly.

The Commission, based on the information submitted to it, will issue an order granting the application after the date mentioned above, unless the Commission determines to order a hearing on the matter.

For the Commission, by the Division of Market Regulation, pursuant to delegated authority.⁴
⁴ 17 CFR 200.30-3(a)(1).
Jonathan G. Katz,
Secretary.

[FR Doc. E5-3333 Filed 6-24-05; 8:45 am]

BILLING CODE 8010-01-P